DEPARTMENT OF TRANSPORTATION

Federal Aviation Administration

14 CFR Part 39

[Docket No. FAA-2022-1297; Project Identifier MCAI-2022-00570-T; Amendment 39-22336; AD 2023-03-11]

RIN 2120-AA64

Airworthiness Directives; Dassault Aviation Airplanes

AGENCY: Federal Aviation Administration (FAA), DOT.

ACTION: Final rule.

SUMMARY: The FAA is adopting a new airworthiness directive (AD) for certain Dassault Aviation Model FALCON 7X airplanes. This AD was prompted by a report of smoke in the flightdeck and loss of the right-hand (RH) primary display unit (PDU) and the secondary flight display (SFD). This AD requires inspecting the two electrical power feeders for damage (deterioration), measuring the clearance between the two electrical power feeders and the forward lavatory bulkhead, and applicable corrective actions, as specified in a European Union Aviation Safety Agency (EASA) AD, which is incorporated by reference. The FAA is issuing this AD to address the unsafe condition on these products.

DATES: This AD is effective April 4, 2023.

The Director of the Federal Register approved the incorporation by reference of a certain publication listed in this AD as of April 4, 2023.

ADDRESSES:

AD Docket: You may examine the AD docket at regulations.gov under Docket No. FAA-2022-1297; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th Street, Des Moines, WA. For information on the availability of this material at the FAA, call 206-231-3195. It is also available in the AD docket at regulations.gov under Docket No. FAA-2022-1297.

FOR FURTHER INFORMATION CONTACT: Tom Rodriguez, Aerospace Engineer, Large Aircraft Section, FAA, International Validation Branch, 2200 South 216th Street, Des Moines, WA 98198; telephone 206-231-3226; email tom.rodriguez@faa.gov.

SUPPLEMENTARY INFORMATION:

Background

The FAA issued a notice of proposed rulemaking (NPRM) to amend 14 CFR part 39 by adding an AD that would apply to certain Dassault Aviation Model FALCON 7X airplanes. The NPRM published in the Federal Register on October 21, 2022 (87 FR 63978). The NPRM was prompted by AD 2022-0073, dated April 27, 2022, issued by EASA, which is the Technical Agent for the Member States of the European Union (EASA AD 2022-0073) (also referred to as the MCAI). The MCAI states that a report was received of smoke in the flightdeck and loss of the RH PDU and the SFD. The subsequent investigation determined that chafing and arcing of the electrical power feeders with the forward lavatory bulkhead led to smoke and loss of the RH PDU and the SFD power supply.

In the NPRM, the FAA proposed to require inspecting the two electrical power feeders for damage (deterioration), measuring the clearance between the two electrical power feeders and the forward lavatory bulkhead, and applicable corrective actions, as specified in EASA AD 2022-0073. The FAA is issuing this AD to address chafing and arcing of the electrical power feeders with the forward lavatory bulkhead, which could lead to loss of systems supporting flight automation and flight displays and reduced situational awareness, possibly resulting in a significant increase of flightcrew workload and injury to occupants.

You may examine the MCAI in the AD docket at regulations.gov under Docket No. FAA-2022-1297.

Discussion of Final Airworthiness Directive

Comments

The FAA received a comment from an anonymous commenter. The following presents the comment received on the NPRM and the FAA's response to the comment.

Request To Clarify Manufacturer Involvement

The anonymous commenter supported the NPRM without change. However, the commenter also wanted to know if manufacturers that make and design the aircraft are involved in the resolution of an unsafe condition on their product.

The FAA acknowledges that all manufacturers are always involved in the resolution of any unsafe condition associated with their product.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2022-0073 specifies procedures for inspecting the two electrical power feeders for damage (deterioration), measuring the clearance between the two electrical power feeders and the forward lavatory bulkhead, and applicable corrective actions. The corrective actions include repairing any electrical power feeder with deterioration and modifying the forward lavatory bulkhead. If a clearance of more than 1 millimeter (mm) but less than or equal to 13 mm is detected, the corrective action includes installing ROUNDIT200NX sheath on the affected electrical power feeder using white binding braid. If a clearance of more than 13 mm is detected, the corrective action includes looking for the presence of a blue cable grip around the electrical power feeders and installing it if it is missing. This material is reasonably available because the interested parties have access to it through their normal course of business or by the means identified in the ADDRESSES section.

Costs of Compliance

The FAA estimates that this AD affects 45 airplanes of U.S. registry. The FAA estimates the following costs to comply with this AD:

Estimated Costs for Required Actions
Labor cost | Parts cost | Cost per product | Cost on U.S. operators
2 work-hours × $85 per hour = $170 | $0 | $170 | $7,650

The FAA estimates the following costs to do any necessary on-condition actions that would be required based on the results of any required actions. The FAA has no way of determining the number of aircraft that might need these on-condition actions:

Estimated Costs of On-Condition Actions
Labor cost | Parts cost | Cost per product
Up to 33 work-hours × $85 per hour = $2,805 | Up to $431 | Up to $3,236.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-03-11 Dassault Aviation: Amendment 39-22336; Docket No. FAA-2022-1297; Project Identifier MCAI-2022-00570-T.

(a) Effective Date

This airworthiness directive (AD) is effective April 4, 2023.

(b) Affected ADs

None.

(c) Applicability

This AD applies to Dassault Aviation Model FALCON 7X airplanes, certificated in any category, as identified in European Union Aviation Safety Agency (EASA) AD 2022-0073, dated April 27, 2022 (EASA AD 2022-0073).

(d) Subject

Air Transport Association (ATA) of America Code: 24, Electrical power.

(e) Unsafe Condition

This AD was prompted by a report of smoke in the flightdeck and loss of the right-hand primary display unit (PDU) and the secondary flight display (SFD). The FAA is issuing this AD to address chafing and arcing of the electrical power feeders with the forward lavatory bulkhead, which could lead to loss of systems supporting flight automation and flight displays and reduced situational awareness, possibly resulting in a significant increase of flightcrew workload and injury to occupants.

(f) Compliance

Comply with this AD within the compliance times specified, unless already done.

(g) Requirements

Except as specified in paragraph (h) of this AD: Comply with all required actions and compliance times specified in, and in accordance with, EASA AD 2022-0073.

(h) Exceptions to EASA AD 2022-0073

(1) Where EASA AD 2022-0073 refers to its effective date, this AD requires using the effective date of this AD.

(2) The “Remarks” section of EASA AD 2022-0073 does not apply to this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or Dassault Aviation's EASA Design Organization Approval (DOA). If approved by the DOA, the approval must include the DOA-authorized signature.

(j) Additional Information

For more information about this AD, contact Tom Rodriguez, Aerospace Engineer, Large Aircraft Section, FAA, International Validation Branch, 2200 South 216th Street, Des Moines, WA 98198; telephone 206-231-3226; email tom.rodriguez@faa.gov.

(k) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0073, dated April 27, 2022.

(ii) [Reserved]

(3) For EASA AD 2022-0073, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th Street, Des Moines, WA. For information on the availability of this material at the FAA, call 206-231-3195.

(5) You may view this material that is incorporated by reference at the National Archives and Records Administration (NARA). For information on the availability of this material at NARA, email fr.inspection@nara.gov, or go to: www.archives.gov/federal-register/cfr/ibr-locations.html.

Issued on February 7, 2023.
Christina Underwood,
Acting Director, Compliance & Airworthiness Division, Aircraft Certification Service.

[FR Doc. 2023-04025 Filed 2-27-23; 8:45 am]

BILLING CODE 4910-13-P